FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202) 523-5793 or tradeanalysis@fmc.gov.

Agreement No.: 011795-005.

Title: Puerto Rican Cross Space Charter and Sailing Agreement.

Parties: Compania Sud Americana de Vapores S.A.; Norasia Container Lines Limited; and Compania Chilena de Navegacion Interoceanica S.A.

Filing Party: Wayne Rohde, Esq.; Cozen O'Connor; 1200 19th Street NW.; Washington, DC 20036.

Synopsis: The amendment would delete CCNI, CSAV and Norasia as parties to the agreement and replace them with Hamburg Sud (in the case of CCNI) and Hapag-Lloyd (in the case of CSAV and Norasia). The amendment would also delete obsolete language from the agreement.

By Order of the Federal Maritime Commission.
Dated: September 8, 2015.
Rachel E. Dickon,
Assistant Secretary.

[FR Doc. 2015-22912 Filed 9-10-15; 8:45 am]

BILLING CODE 6730-01-P